DEPARTMENT OF THE INTERIOR

National Park Service

Notice of Inventory Completion: Department of Anthropology Museum at the University of California, Davis, Davis, CA

AGENCY: National Park Service, Interior.

ACTION: Notice.

Notice is here given in accordance with the Native American Graves Protection and Repatriation Act (NAGPRA), 25 U.S.C. 3003, of the completion of an inventory of human remains and associated funerary objects in the possession of the Department of Anthropology Museum at the University of California, Davis, Davis, CA. The human remains and associated funerary objects were removed from Colusa and Yolo Counties, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Department of Anthropology Museum at the University of California, Davis professional staff in consultation with representatives of the Cachil DeHe Band of Wintun Indians of the Colusa Indian Community of the Colusa Rancheria, California; Cortina Indian Rancheria of Wintun Indians of California; and Rumsey Indian Rancheria of Wintun Indians of California.

In 1973, human remains representing a minimum of two individuals were removed from Miller Mound (CA-COL-1), Colusa County, CA, by the University of California, Davis archeological field school. No known individuals were identified. The 6,871 associated funerary objects are 177 clamshell disk beads, 1 lot of approximately 5,000 clamshell disk beads, 1 bone awl, 6,452 trade beads and fragments, 5 lots of trade beads and fragments (totaling over 10,000), 168 abalone shell pendants, 2 magnesite cylinders, 7 buttons, 1 clamshell bead necklace fragment, 1 basket fragment, 3 coin/clamshell bead necklace fragments, 41 coins, 4 metal fragments, 1 square nail, 2 animal bones, 4 lots of textile/bead matrix, and 1 hat.

Based on burial context and site characteristics, the human remains described above from Colusa County are determined to be Native American in origin. The presence of clamshell disk beads with one of the burials indicates that it dates to Phase 2 of the Late Period (approximately A.D. 1500-1790). The presence of historic items indicates that the other burial dates to the Historic Period (prior to A.D. 1790). Linguistic evidence indicates that the Patwin (Southern Wintun) moved southward from the vicinity of the California-Oregon border into the Sacramento Valley sometime around A.D. 0, and then spread into the surrounding foothills sometime before the beginning of Phase 2 of the Late Period. Robert Heizer documented the Miller Mound site as an ethnographic village site inhabited by the River Patwin at least through the Historic Period, or since A.D. 1770, until it was abandoned in A.D. 1872. The archeological assemblage from the Miller Mound also indicates an occupation that is consistent with the ethnographic Patwin. Based on geographical location and age of the associated funerary objects, the human remains and associated funerary objects are culturally affiliated with descendants of the Patwin.

In 1969 and 1971, human remains representing a minimum of five individuals were removed from CA-COL-11 in Colusa County, CA, by two University of California, Davis archeological field schools. The collection was accessioned by the museum in 1971. No known individuals were identified. The 21 associated funerary objects are 1 Haliotis ornament, 5 clamshell disk beads, 1 lot of at least 2,500 clamshell disk beads, 12 Olivella beads, and 2 pestles.

Based on burial context and site characteristics, the human remains described above from Colusa County are determined to be Native American in origin. The artifact assemblage at this site, which includes clamshell disk beads and arrow points, indicates that the human remains and associated funerary objects date to no earlier than Phase 2 of the Late Period (or roughly A.D. 1500-1790). Linguistic evidence indicates that the Patwin (Southern Wintun) moved southward from the vicinity of the California-Oregon border into the Sacramento Valley sometime around A.D. 0, and then spread into the surrounding foothills sometime before the beginning of Phase 2 of the Late Period. The archeological assemblage from CA-COL-11 also indicates an occupation that is consistent with the ethnographic Patwin. Based on geographical location and age of the associated funerary objects, the human remains and associated funerary objects are culturally affiliated with descendants of the Patwin.

In 1967, human remains representing a minimum of one individual were removed from CA-YOL-17 in Yolo County, CA, by the University of California, Davis archeological field school. No known individual was identified. The 25 associated funerary objects are 21 Haliotis sp. shell beads, 2 clamshell disk beads, and 2 steatite beads.

Based on burial context and site characteristics, the human remains described above from Yolo County are determined to be Native American in origin. The presence of clamshell disk beads indicates that the human remains dates to Phase 2 of the Late Period (approximately A.D. 1500-1790). Linguistic evidence indicates that the Patwin (Southern Wintun) moved southward from the vicinity of the California-Oregon border into the Sacramento Valley sometime around A.D. 0, and then spread into the surrounding foothills sometime before the beginning of Phase 2 of the Late Period. The archeological assemblage from CA-YOL-17 also indicates an occupation that is consistent with the ethnographic Patwin. Based on geographical location and age of the associated funerary objects, the human remains and associated funerary objects are culturally affiliated with descendants of the Patwin.

Officials of the Department of Anthropology Museum at the University of California, Davis have determined that, pursuant to 25 U.S.C. 3001 (9-10), the human remains described above represent the physical remains of eight individuals of Native American ancestry. Officials of the Department of Anthropology Museum at the University of California, Davis also have determined that, pursuant to 25 U.S.C. 3001 (3)(A), the 6,917 objects described above are reasonably believed to have been placed with or near individual human remains at the time of death or later as part of the death rite or ceremony. Lastly, officials of the Department of Anthropology Museum at the University of California, Davis have determined that, pursuant to 25 U.S.C. 3001 (2), there is a relationship of shared group identity that can be reasonably traced between the Native American human remains and associated funerary objects and the Cachil DeHe Band of Wintun Indians of the Colusa Indian Community of the Colusa Rancheria, California; Cortina Indian Rancheria of Wintun Indians of California; and Rumsey Indian Rancheria of Wintun Indians of California.

Representatives of any other Indian tribe that believes itself to be culturally affiliated with the human remains and associated funerary objects should contact Elizabeth Guerra, Department of Anthropology Museum, 330 Young Hall, One Shields Avenue, University of California, Davis, CA 95616, telephone (530) 754-6280, before September 12, 2008. Repatriation of the human remains and associated funerary objects to the Cachil DeHe Band of Wintun Indians of the Colusa Indian Community of the Colusa Rancheria, California; Cortina Indian Rancheria of Wintun Indians of California; and Rumsey Indian Rancheria of Wintun Indians of California may proceed after that date if no additional claimants come forward.

The Department of Anthropology Museum at the University of California, Davis is responsible for notifying the Cachil DeHe Band of Wintun Indians of the Colusa Indian Community of the Colusa Rancheria, California; Cortina Indian Rancheria of Wintun Indians of California; and Rumsey Indian Rancheria of Wintun Indians of California that this notice has been published.

Dated: July 16, 2008.
Sherry Hutt,
Manager, National NAGPRA Program.

[FR Doc. E8-18679 Filed 8-12-08; 8:45 am]

BILLING CODE 4312-50-S